DEPARTMENT OF ENERGY

Federal Energy Regulatory Commission

[Docket No. AD05-1-000]

Principles for Efficient and Reliable Reactive Power; Notice of Technical Conference

March 2, 2005.

As announced in a Notice of Technical Conference issued on January 31, 2005, in the above referenced proceeding, a technical conference will be held on March 8, 2005, from approximately 9 a.m. until 5 p.m. (EST), in the Commission Meeting Room on the second floor of the offices of the Federal Energy Regulatory Commission, 888 First Street, NE., Washington, DC. All interested persons may attend, and registration is not required. Commissioners are expected to participate. Attached is the agenda for the conference.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

FERC conferences are accessible under Section 508 of the Rehabilitation Act of 1973. For accessibility accommodations please send an e-mail to accessibility@ferc.gov or call toll free 866-208-3372 (voice) or 202-208-1659 (TTY), or send a FAX to 202-208-2106 with the required accommodations.

For more information about the conference, please contact Derek Bandera at (202) 502-8031 (Derek.bandera@ferc.gov) or Sarah McKinley at (202) 502-8004 (sarah.mckinley@ferc.gov).

Linda Mitry,
Deputy Secretary.

Reactive Power Conference

March 8, 2005—Agenda

9 a.m.—Opening Remarks

Richard O'Neill, Federal Energy Regulatory Commission

9:15 a.m.—Panel I—Reliability and Technical Issues

Panelists:

Donald Benjamin, NERC

Philip Fedora, Northeast Power Coordinating Council

Michael Connolly, CenterPoint Energy

Ronald Snead, Cinergy Services (MISO Transmission Owners)

Michael Calimano, New York ISO

Anjan Bose, Washington State University

Robert O'Connell, Williams Power Company, Inc.

Terry Winter, American Superconductor

Eric John, ABB Inc.

11:15 a.m.—Panel II—Short-Term Reactive Power Issues

Panelists:

Dennis Bethel, American Electric Power

Allen Mosher, American Public Power Association

David Bertagnolli, ISO New England

Steve Wofford, Constellation Energy Commodities Group, Inc.

John Lucas, Southern Company

John Simpson, Reliant Energy, Inc.

Scott Helyer, Tenaska, Inc.

1 p.m.—Lunch Break

2 p.m.—Panel III—Prospective Reactive Power Solutions

Panelists:

Fernando Alvarado, IEEE-USA Energy Policy Committee

Michael Calviou, National Grid USA

Mayer Sasson, Consolidated Edison of New York

Steven Naumann, Exelon Corporation

David Clarke, Navigant Consulting, Inc.

Harry Terhune, American Transmission Company LLC

Robert D'Aquila, GE Energy

Kris Zadlo, Calpine

Andy Ott, PJM Interconnection, L.L.C.

4 p.m.—Adjourn

[FR Doc. E5-965 Filed 3-7-05; 8:45 am]

BILLING CODE 6717-01-P